DEPARTMENT OF HOMELAND SECURITY

Coast Guard

33 CFR Part 100

[Docket No. USCG-2023-0230]

Special Local Regulations; Windermere Cup, Montlake Cut, Union Bay Reach, Seattle, Washington

AGENCY: Coast Guard, DHS.

ACTION: Notification of enforcement of regulation.

SUMMARY: The Coast Guard will enforce special local regulations for the Windermere Cup on May 6, 2023, from 7 a.m. to 1 p.m. to provide for the safety of life on navigable waterways during this event. Our regulation for marine events within the Thirteenth Coast Guard District identifies the regulated area for this event on the Montlake Cut and Union Bay Reach between Portage Bay and Webster Point on Lake Washington in Seattle, WA. The regulation prohibits persons and vessels from being in the regulated areas unless authorized by the Captain of the Port Puget Sound or a designated representative.

DATES: The regulations in 33 CFR 100.1311 will be enforced Saturday, May 6, 2023, from 7 a.m. to 1 p.m.

FOR FURTHER INFORMATION CONTACT: If you have questions about this notification of enforcement, call or email Lieutenant Peter J. McAndrew, Sector Puget Sound Waterways Management Division, Coast Guard; telephone 206-217-6045, email SectorPugetSound@uscg.mil.

SUPPLEMENTARY INFORMATION: The Coast Guard will enforce special local regulations in 33 CFR 100.1311 for the Windermere Cup on May 6, 2023, from 7 a.m. to 1 p.m. This action is necessary to provide for the safety of life on navigable waterways during this one-day event. Our regulation for marine events within the Thirteenth Coast Guard District, § 100.1311(a), specifies the location of the regulated area for the Windermere Cup which encompasses waters from Montlake Cut and Union Bay Reach between Portage Bay and Webster Point on Lake Washington in Seattle, WA. All non-participants are prohibited from entering, transiting through, anchoring in, or remaining within the regulated area unless authorized by the Captain of the Port or their designated representative.

The Captain of the Port may be assisted by other federal, state, and local law enforcement agencies in enforcing this regulation.

If the Captain of the Port determines that the regulated area need not be enforced for the full duration stated in this notice, he will issue a Broadcast Notice to Mariners to terminate this notice of enforcement.

In addition to this notification of enforcement in the Federal Register, the Coast Guard plans to provide notification of this enforcement period via the Local Notice to Mariners and marine information broadcasts.

Dated: March 16, 2023.
P.M. Hilbert,
Captain, U.S. Coast Guard, Captain of the Port, Puget Sound.

[FR Doc. 2023-05954 Filed 3-22-23; 8:45 am]

BILLING CODE 9110-04-P